DEPARTMENT OF LABOR

Office of the Secretary

Submission for OMB Review: Comment Request

June 11, 2008.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number) / e-mail: king.darrin@dol.gov.

Interested parties are encouraged to send comments to the Office of Information and Regulatory Affairs, Attn: OMB Desk Officer for the Employment and Training Administration (ETA), Office of Management and Budget, Room 10235, Washington, DC 20503, Telephone: 202-395-7316 / Fax: 202-395-6974 (these are not toll-free numbers), e-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g. , permitting electronic submission of responses.

Agency: Employment and Training Administration.

Type of Review: Extension without change of a currently approved collection.

Title: Unemployment Insurance Data Validation Program.

OMB Control Number: 1205-0431.

Form Number: Handbook 361.

Affected Public: State Governments.

Estimated Number of Respondents: 53.

Estimated Total Annual Burden Hours: 29,150.

Estimated Total Annual Costs Burden: $0.

Description: This program requires States to operate a system for ascertaining the validity (adherence to Federal reporting requirements) of specified unemployment insurance (UI) data they submit to ETA on certain reports they are required to submit monthly or quarterly. Some of these data are used to assess performance, including for the Government Performance and Results Act, or determine States' grants for UI administration. For additional information, see related notice published at 73 FR 8066 on February 12, 2008.

Agency: Employment and Training Administration.

Type of Review: Extension without change of a currently approved collection.

Title: Non Production Questionnaire.

OMB Control Number: 1205-0447.

Form Number: ETA-9118.

Affected Public: Private Sector—Business or other for-profits.

Estimated Number of Respondents: 555.

Estimated Total Annual Burden Hours: 1,943.

Estimated Total Annual Costs Burden: $0.

Description: Information on the Form ETA-9118 is required in order to make a determination on Trade Adjustment Assistance petitions filed on behalf of service workers in accordance with Section 223 of the Trade Adjustment Assistance Act of 2002. For additional information, see related notice published at 73 FR 13922 on March 14, 2008.

Agency: Employment and Training Administration.

Type of Review: Extension without change of a currently approved collection.

Title: Unemployment Insurance (UI) Facilitation of Claimant Reemployment

OMB Control Number: 1205-0452.

Form Number: ETA-9047.

Affected Public: State Governments.

Estimated Number of Respondents: 53.

Estimated Total Annual Burden Hours: 2,120.

Estimated Total Annual Costs Burden: $0.

Description: This information is collected at the state level to determine the percentage of individuals who become reemployed in the calendar quarter subsequent to the quarter in which they received their first UI payment. The data will be used to measure performance for the Department's Government Performance and Results Act of 1993 with the goal of facilitating the reemployment of UI claimants. For additional information, see related notice published at 73 FR 13013 on March 11, 2008.

Agency: Employment and Training Administration.

Type of Review: New (Request for a new OMB Control Number).

Title: Workforce Investment Streamlined Performance Reporting (WISPR) System.

OMB Control Number: 1205-0NEW.

Form Numbers: WISRD-1; ETA-9131; ETA-9132; and ETA-9133.

Affected Public: State Governments.

Estimated Number of Respondents: 54.

Estimated Total Annual Burden Hours: 816,071.

Estimated Total Annual Costs Burden: $0.

Description: The WISPR System replaces the reporting and recordkeeping requirements of 7 Employment and Training programs. The goal is to ensure that the workforce system is clearly focused on results, which will help ensure that the system's jobseeker and employer customers are effectively served. The Office of Management and Budget and other Federal agencies developed a set of common performance measures; these common measures are integral to ETA's performance accountability system and are the key results that ETA programs strive to achieve for their customers and to measure with a uniform information collection system. For additional information, see related notices published at 69 FR 42777 on July 16, 2004 and 71 FR 65000 on November 6, 2006.

Darrin A. King,
Acting Departmental Clearance Officer.

[FR Doc. E8-13648 Filed 6-17-08; 8:45 am]

BILLING CODE 4510-FW-P